DEPARTMENT OF TRANSPORTATION

Federal Aviation Administration

Notice of Release of an Easement Restriction at Phoenix-Mesa Gateway Airport, Mesa, AZ

AGENCY: Federal Aviation Administration, DOT.

ACTION: Notice of Request to Release Airport Land.

SUMMARY: The Federal Aviation Administration (FAA) proposes to rule and invites public comment on the application for a release of a U.S. Air Force easement restriction covering 52.6 acres of property abutting Phoenix-Mesa Gateway, Mesa, Arizona, from all conditions contained in a grant of an easement, since the easement is not needed for civilian airport purposes. In exchange for the easement, the airport will receive 19 acres of land and a new avigation easement. Reuse of the land under the easement will remain compatible and not interfere with the airport or its operation. The interest of civil aviation is properly served by the release.

DATES: Comments must be received on or before September 19, 2011.

FOR FURTHER INFORMATION CONTACT: Comments on the request may be mailed or delivered to the FAA at the following address: Tony Garcia, Airports Compliance Program Manager, Federal Aviation Administration, Airports Division, Federal Register Comment, 15000 Aviation Blvd., Lawndale, CA 90261. In addition, one copy of the comment submitted to the FAA must be mailed or delivered to Mr. Walter Fix, Phoenix-Gateway Airport Authority, 5835 S. Sossaman Road, Mesa, Arizona 85212, Telephone: (480) 988-7709.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

Phoenix-Mesa Gateway Airport Authority, Mesa, Arizona requested a release of an easement that was obtained from the U.S. Air Force via an Assignment of Easement on April 14, 1998. The easement covers approximately 52.6 acres of private property. It extends eastward from the airport boundary and is located east of Ellsworth Road and north of Pecos Road. Use of the private property east of the airport is restricted by the easement. Relinquishment of the easement will not harm the airport because it is being replaced with a standard avigation easement. The new easement will provide the airport with a continued right for aircraft to fly in the airspace above the private property. It will also prevent interference with airport operations and the erection of obstructions that pose a hazard to aircraft. As compensation, the private land owner will convey 17.53 acres of land at no cost to the Airport Authority that will serve an airport purpose. The land will allow the airport to have a complete runway protection zone for runway end 30R on airport property. Presently, a portion of the RPZ extends beyond the airport boundary to the private property located east of Ellsworth Road. The Airport Authority has agreed to the exchange because the restrictive easement is not needed and will be replaced with an avigation easement. The airport will be additionally compensated with a donation of land that has an immediate airport purpose. The use of the property under the new easement will continue to be used compatibly with the airport and not cause interference with airport operations. The exchange is equitable and the donation of land to the airport clearly serves the interests of civil aviation.

Issued in Hawthorne, California, on August 10, 2011.
Brian Armstrong,
Manager, Safety and Standards, Airports Division, Western-Pacific Region.

[FR Doc. 2011-21082 Filed 8-17-11; 8:45 am]

BILLING CODE 4910-13-P